DEPARTMENT OF COMMERCE

National Oceanic and Atmospheric Administration

RIN 0648-XQ77

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on September 1-2, 2009. The Council will convene on Tuesday, September 1, 2009, from 9 a.m. to 5 p.m., and the Administrative Committee will meet from 5:15 p.m. to 6 p.m. They will reconvene on Wednesday, September 2, 2009, from 8:30 a.m. to 5 p.m.

ADDRESSES: The meetings will be held at the Courtyard by Marriott Aguadilla Hotel, located in West Parade/Belt Road, Ramey Base, Aguadilla, Puerto Rico.

FOR FURTHER INFORMATION CONTACT: Caribbean Fishery Management Council, 268 Munoz Rivera Avenue, Suite 1108, San Juan, Puerto Rico 00918-1920; telephone: (787) 766-5926.

SUPPLEMENTARY INFORMATION: The Council will hold its 132nd regular Council meeting to discuss the items contained in the following agenda:

September 1, 2009, 9 a.m. to 5 p.m.

•Call to Order

•Adoption of Agenda

•Consideration of the 131st Council Meeting Verbatim Transcription

•Executive Director's Report

•Presentation by Michael Kelly

•ACLs/AMs Scoping Meetings Report

September 1, 2009, 5:15 p.m. to 6 p.m.

•Administrative Committee Meeting

-AP/SSC/HAP Membership

-Budget

- FY 2009

- Budget Petition: 5-years (2010-14)

-SOPPs Amendment(s)

-Other Business

September 2, 2009, 8:30 a.m. to 5 p.m.

•Highly Migratory Species Presentation

•ACLs/AMs Scoping Meetings Report (Cont.)

•Bajo de Sico Regulations

•New Development of Acropora palmata Disease at a Marine Reserve in Puerto Rico

•Enforcement Reports

-Puerto Rico

-U.S. Virgin Islands - DPNR

-NOAA/NMFS

-U.S. Coast Guard

•Administrative Committee Recommendations

•Meetings Attended by Council Members and Staff

•PUBLIC COMMENT PERIOD (5-MINUTES PRESENTATIONS)

•Other Business

•Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. However, simultaneous translation (English/Spanish) will be provided. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-1920, telephone: (787) 766-5926, at least 5 days prior to the meeting date.

Dated: August 6, 2009.
Tracey L. Thompson,
Acting Director, Office of Sustainable Fisheries, National Marine Fisheries Service.

[FR Doc. E9-19151 Filed 8-10-09; 8:45 am]

BILLING CODE 3510-22-S